NATIONAL ARCHIVES AND RECORDS ADMINISTRATION

[NARA-2016-006]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide agencies with mandatory instructions for what to do with records when agencies no longer need them for current Government business. The instructions authorize agencies to preserve records of continuing value in the National Archives of the United States and to destroy, after a specified period, records lacking administrative, legal, research, or other value. NARA publishes notice in the Federal Register for records schedules in which agencies propose to destroy records not previously authorized for disposal or to reduce the retention period of records already authorized for disposal. NARA invites public comments on such records schedules, as required by 44 U.S.C. 3303a(a).

DATES: NARA must receive requests for copies in writing by December 31, 2015. Once NARA appraises the records, we will send you a copy of the schedule you requested. We usually prepare appraisal memoranda that contain additional information concerning the records covered by a proposed schedule. You may also request these. If you do, we will also provide them once we have completed the appraisal. You have 30 days after we send you these requested documents in which to submit comments.

ADDRESSES: You may request a copy of any records schedule identified in this notice by contacting Records Management Services (ACNR) using one of the following means:

Mail: NARA (ACNR); 8601 Adelphi Road; College Park, MD 20740-6001.

Email: request.schedule@nara.gov.

FAX: 301-837-3698.

You must cite the control number, which appears in parentheses after the name of the agency which submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is specifically limited to a specific medium. (See 36 CFR 1225.12(e).)

Agencies may not destroy Federal records without the approval of the Archivist of the United States. The Archivist grants this approval only after thorough consideration of the records' administrative use by the agency of origin, the rights of the Government and of private people directly affected by the Government's activities, and whether or not the records have historical or other value.

In addition to identifying the Federal agencies and any subdivisions requesting disposition authority, lists the organizational unit(s) accumulating the records or lists that the schedule has agency-wide applicability (in the case of schedules that cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Forest Service (DAA-0095-2016-0001, 6 items, 1 temporary item). Duplicate copies of aerial photographic imagery. Proposed for permanent retention are original analog negative film, digital imagery that does not exist in analog format, negative imagery indices, and film reports.

2. Department of Education, Federal Student Aid (DAA-0441-2015-0001, 1 item, 1 temporary item). Master file of an electronic information system containing account information about recipients of Federal Student Aid.

3. Department of the Interior, Agency-wide (DAA-0048-2013-0008, 15 items, 4 temporary items). Policy development records relating to legislative input, compliance reporting, and rulemaking. Proposed for permanent retention are high-level policy records to include oversight, official legislative reports, public affairs, regulations, executive commissions, and media records.

4. Department of State, Bureau of Conflict and Stabilization Operations (DAA-0059-2014-0025, 4 items, 4 temporary items). Records of the Office of Learning and Training, including training materials, guidance and best practice documents, evaluations, and administration records.

5. Department of State, Bureau of Energy Resources (DAA-0059-2015-0011, 8 items, 8 temporary items). Records include press guidance, publicity materials, copies of analysis and briefing materials, and public comments related to energy issues.

6. Department of State, Bureau of European and Eurasian Affairs and International Organizations (DAA-0059-2015-0014, 1 item, 1 temporary item). Master file of an electronic information system used to track employee performance evaluations.

7. Department of Transportation, Federal Highway Administration (DAA-0406-2014-0003, 3 items, 3 temporary items). Records concerning a data portal used to access traffic data.

8. Department of Transportation, Federal Highway Administration (DAA-0406-2015-0002, 1 item, 1 temporary item). Records relating to emergency relief program case files, including applications, fund allocation, correspondence, and reports.

9. Department of Transportation, Surface Transportation Board (DAA-0134-2013-0013, 1 item, 1 temporary item). Electronic records relating to Amtrak on-time performance.

10. Department of the Treasury, Internal Revenue Service (DAA-0058-2015-0007, 1 item, 1 temporary item). Referrals from government agencies of alleged tax violations upon which no further action is taken.

11. Federal Communications Commission, Office of the Managing Director (DAA-0173-2015-0006, 3 items, 3 temporary items). Records include worksheets and information collected from service providers related to the Telecommunications Relay Service.

12. Federal Communications Commission, Wireline Competition Bureau (DAA-0173-2015-0008, 1 item, 1 temporary item). Annual certification letters for telecommunications carriers.

13. National Archives and Records Administration, Research Services (N2-60-14-1, 1 item, 1 temporary item). Records of the Department of Justice, Civil Division, relating to the Mortgage and Lien Foreclosure Act. The records consist of temporary case files for civil actions against a holder of a defaulted mortgage or loan (1931-1948). These records were accessioned to the National Archives but lack sufficient historical value to warrant continued preservation.

14. National Archives and Records Administration, Research Services (N2-60-14-2, 1 item, 1 temporary item). Records of the Department of Justice, Civil and Criminal Divisions, relating to the Federal Housing Act. The records consist of temporary case files for civil and criminal actions regarding insured mortgages and home improvement and repair loans (1934-1968). These records were accessioned to the National Archives but lack sufficient historical value to warrant continued preservation.

15. National Archives and Records Administration, Research Services (N2-60-14-3, 1 item, 1 temporary item). Department of Justice, Environment and Natural Resources Division, temporary case files for civil and criminal actions regarding eviction and delinquent rentals owed to U.S. Government owned housing programs (1938-1949). These records were accessioned to the National Archives but lack sufficient historical value to warrant continued preservation.

16. National Archives and Records Administration, Research Services (N2-60-14-4, 1 item, 1 temporary item). Department of Justice, Civil and Criminal Divisions, temporary case files for civil and criminal actions relating to the collection of farm security, rural rehabilitation and soil conservation loans made by the Farmers Home Administration (1938-1949). These records were accessioned to the National Archives but lack sufficient historical value to warrant continued preservation.

17. National Archives and Records Administration, Research Services (N2-60-14-5, 1 item, 1 temporary item). Department of Justice, Civil and Criminal Divisions, temporary case files for civil and criminal actions relating to the collection of unpaid loans made by the Farm Credit Administration (1934-1949). These records were accessioned to the National Archives but lack sufficient historical value to warrant continued preservation.

18. National Archives and Records Administration, Research Services (N2-60-14-6, 1 item, 1 temporary item). Department of Justice, Criminal Division, temporary case files for criminal actions relating to the theft of U.S. Government property (1921-1957). These records were accessioned to the National Archives but lack sufficient historical value to warrant continued preservation.

19. National Archives and Records Administration, Research Services (N2-60-14-7, 1 item, 1 temporary item). Department of Justice, Civil and Criminal Divisions, temporary case files for civil and criminal actions relating to claims filed under the War Risk Insurance Act (1917-1948). These records were accessioned to the National Archives but lack sufficient historical value to warrant continued preservation.

20. National Archives and Records Administration, Research Services (N2-60-14-8, 1 item, 1 temporary item). Department of Justice, Criminal Division, temporary case files for criminal actions relating to individual impersonation or misrepresentation as Federal officers, agents, employees, and members of the U.S. Armed Forces (1921-1951). These records were accessioned to the National Archives but lack sufficient historical value to warrant continued preservation.

Dated: November 20, 2015.
Laurence Brewer,
Director, National Records Management Program.

[FR Doc. 2015-30381 Filed 11-30-15; 8:45 am]

BILLING CODE 7515-01-P